DEPARTMENT OF THE INTERIOR

Fish and Wildlife Service

[Docket No. FWS-HQ-IA-2021-0052; FXIA16710900000-212-FF09A30000]

Marine Mammals; Issuance of Permits

AGENCY: Fish and Wildlife Service, Interior.

ACTION: Notice of issuance of permits.

SUMMARY: We, the U.S. Fish and Wildlife Service (Service), have issued the following permits to conduct certain activities with marine mammals. We issue these permits under section 104(c) of the Marine Mammal Protection Act of 1972, as amended.

ADDRESSES: Information about the applications for the permits listed in this notice is available online at www.regulations.gov. See SUPPLEMENTARY INFORMATION for details.

FOR FURTHER INFORMATION CONTACT: Brenda Tapia, by phone at 703-358-2185, via email at DMAFR@fws.gov, or via the Federal Relay Service at 800-877-8339.

SUPPLEMENTARY INFORMATION: We, the U.S. Fish and Wildlife Service (Service), have issued permits to conduct certain activities with marine mammals in response to permit applications that we received. Section 104(c) of the Marine Mammal Protection Act of 1972, as amended (MMPA; 16 U.S.C. 1361 et seq.), specifies the conditions for authorizing the taking or importation of a marine mammal for purposes of scientific research, public display, or enhancing the survival or recovery of a species or stock under the MMPA, providing that certain conditions are met. A permit may be issued for public display purposes to applicants which offers a program for education or conservation purposes that meets professionally recognized standards of the public display community, for which the applicant's facilities are open to the public on a regularly scheduled basis and that access to the facilities is not limited or restricted other than by charging of an admission fee. A permit may be issued for scientific research purposes when the taking is required to further a bona fide scientific purpose and does not involve unnecessary duplication of research. This notice only informs the public that, after going through a review of the submitted application, the Service has determined that all the issuance criteria of the MMPA have been met.

Availability of Documents

The permittees' original permit application materials, along with public comments we received during public comment periods for the applications, are available for review. To locate the application materials and received comments, go to www.regulations.gov and search for the appropriate permit number (e.g., 12345C) provided in the following table:

Marine Mammals

Permit No. | ePermit No. | Applicant | Permit issuance date
672624 | N/A | U.S. Geological Survey (USGS) | December 7, 2020.
73634A | N/A | Seward Association for the Advancement of Marine Science dba Alaska Sealife Center | December 8, 2020.

Authorities

We issue this notice under the Marine Mammal Protection Act as amended (16 U.S.C. 1361 et seq.) and their implementing regulations.

Brenda Tapia,
Supervisor, Program Analyst/Data Administrator, Branch of Permits, Division of Management Authority.

[FR Doc. 2021-24889 Filed 11-15-21; 8:45 am]

BILLING CODE 4333-15-P